DEPARTMENT OF AGRICULTURE

Submission for OMB Review; Comment Request

May 10, 2005.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Verification of Debts and Assets.

OMB Control Number: 0560-0166.

Summary of Collection: The Consolidated Farm and Rural Development Act (CONACT) Sections 311 (7 U.S.C. 1941), 302 (7 U.S.C. 1922 and 321 (7 U.S.C. 1961), authorize the Farm Service Agency to determine an applicant's eligibility for Operating, Farm Ownership or Emergency loans. Additionally, Section 353 (7 U.S.C. 2001) requires FSA to collect financial data to verify debts and assets of borrowers that requested primary and preservation loan servicing or debt settlement. FSA will collect information using FSA form 440-32, Verification of Debts and Assets.

Need and Use of the Information: FSA will collect information to determine whether an applicant is eligible for a loan or the appropriateness of a servicing or debt settlement action. The data collected is then used to determine feasibility of the loan request. If the data were not collected FSA would be forced to use outdated financial information, which would result in much higher losses to the Government.

Description of Respondents: Business or other for-profit; Individuals or households; Farms; Federal Government.

Number of Respondents: 24,031.

Frequency of Responses: Reporting; On occasion.

Total Burden Hours: 18,024.

Charlene Parker,
Departmental Information Collection Clearance Officer.

[FR Doc. 05-9645 Filed 5-13-05; 8:45 am]

BILLING CODE 3410-05-P